DEPARTMENT OF AGRICULTURE

Forest Service

Fremont and Winema Resource Advisory Committee

AGENCY: Forest Service, USDA.

ACTION: Notice of meeting.

SUMMARY: The Fremont and Winema Resource Advisory Committee (RAC) will conduct field meetings on September 7 and September 8, 2006. The purpose of the field meetings is to visit current and future RAC projects, located in Lake and Klamath County, Oregon, in order to review and evaluate project progress and implementation status. These projects have been authorized under the provisions of title II of the Secure Rural Schools and Community Self-Determination Act of 2000.

DATES: The meeting will be held on September 7 and 8, 2006.

ADDRESSES: The field meeting scheduled for September 7 will begin at 9 a.m. at the Paisley Ranger Station, Paisley, Oregon. The field meeting scheduled for September 8 will begin at 8 a.m. in the large conference room at the Klamath Ranger Station Office located at 2819 Dahlia Street, in Klamath Falls. Send written comments to Fremont and Winema Resource Advisory Committee, c/o USDA Forest Service, P.O. Box 67, Paisley, OR 97636, or electronically to agowan@fs.fed.us.

FOR FURTHER INFORMATION CONTACT: Amy Gowan, Designated Federal Official, c/o Klamath National Forest, 1312 Fairlane Road, Yreka, California 96097. Telephone (530) 841-4421.

SUPPLEMENTARY INFORMATION: The agenda and field itinerary includes site visits to RAC projects in the Sycan River watershed on the first day and sites located near the Rocky Point area on the Klamath Ranger District on the second day.

All Fremont and Winema Resource Advisory Committee Meetings are open to the public. There will be a time for public input and comment. Interested citizens are encouraged to attend.

Dated: August 7, 2006.
Amy Gowan,
Designated Federal Official.

[FR Doc. 06-6979 Filed 8-16-06; 8:45 am]

BILLING CODE 3410-11-M